DEPARTMENT OF HEALTH AND HUMAN SERVICES

Administration for Children and Families

[Program Announcement No. OCS-2002-04]

Request for Applications Under the Office of Community Services' Fiscal Year 2002 National Youth Sports Program (NYSP Program)

AGENCY: Office of Community Services (OCS), Administration for Children and Families, Department of Health and Human Services.

ACTION: Announcement of availability of funds and request for competitive applications under the Office of Community Services' National Youth Sports Program.

SUMMARY: The Administration for Children and Families (ACF), Office of Community Services (OCS) announces that competing applications will be accepted for new grants pursuant to the Secretary's discretionary authority under Section 682 of the Community Services Block Grant Act, as amended, 42 U.S.C 9923.

This announcement is inviting applications for project periods up to 5 years. Awards, on a competitive basis, will be for a one-year budget period, although project periods may be for 5 years. Applications for continuation grants funded under these awards beyond the one-year budget period but within the 5 year project period will be entertained in subsequent years on a noncompetitive basis, subject to availability of funds, satisfactory progress of the grantee and a determination that continued funding would be in the best interest of the Government.

CLOSING DATE: The closing date and time for receipt of applications is 4:30 p.m., (Eastern Time Zone), on April 1, 2002. Mailed or hand carried applications received after 4:30 p.m. on the closing date will be classified as late.

FOR FURTHER INFORMATION CONTACT: Veronica Terrell (202) 401-5295, vterrell@acf.dhhs.gov or Richard Saul, rsaul@acf.dhhs.gov, Department of Health and Human Services, Administration for Children and Families, Office of Community Services, 5th Floor West, 370 L'Enfant Promenade, SW., Washington, DC 20447. In addition, this Announcement is accessible on the OCS WEBSITE for reading and downloading at: http://www.acf.dhhs.gov/programs/ocs—Double click on Funding Opportunities. The Catalog of Federal Domestic Assistance (CFDA) number for this program is 93.570. The title is National Youth Sports Program (NYSP Program).

Paperwork Reduction Act of 1995

All information collections within this program announcement are approved under the following currently valid OMB control number 0970-0139 which expires 12/31/2003.

Public reporting burden for this collection of information is estimated to average 10 hours per response, including the time for reviewing instructions, gathering and maintaining the data needed and reviewing the collection information. An agency may not conduct or sponsor, and a person is not required to respond to, a collection of information unless it displays a currently valid OMB control number.

SUPPLEMENTARY INFORMATION: This program announcement consists of seven parts plus Attachments:

Part I: Introduction

Legislative authority, definition of terms, and purpose.

Part II: Background Information

Eligible applicants, program priority area, project and budget period, availability of funds and grant amounts, matching funds requirements, program participants and beneficiaries.

Part III: The Project Description, Program Proposal Elements and Review Criteria

Purpose, project summary/abstract, objectives and need for assistance, results or benefits expected, organizational profiles, budget justification, administrative costs and indirect costs, non-federal resources, and evaluation/review criteria.

Part IV: Applicaiton Procedures

Availability of forms, application submission, application consideration, and application screening.

Part V: Instructions for Completing Applications Forms: SF 424, SF 424A, and SF 424B

Part VI: Contents of Application and Receipt Process

Content and order of application and acknowledgment of receipt.

Part VII: Post Award Information and Reporting Requirements

Notification of grant award, reporting requirements, audit requirements, prohibitions and requirements with regard to lobbying.

Part I. Introduction

A. Legislative Authority

Section 682 of the Community Services Block Grant Act, as amended, 42 U.S.C. 9923 authorizes the Secretary of Health and Human Services to make a grant to an eligible service provider to administer national or regional programs designed to provide instructional activities for low-income youth.

B. Definitions of Terms

For purposes of this Program Announcement the following definitions apply:

—Low-income youth: a youth between the ages of 10 through 16 whose family income does not exceed the DHHS Poverty Income Guidelines (see Attachment A).

—Budget period: The interval of time into which a grant period of assistance is divided for budgetary and funding purposes.

—Project period: The total time for which a project is approved for support, including any approved extensions.

—Secretary: Means the Secretary of Health and Human Services, acting through the Director of the Office of Community Services.

C. Program Purpose

The Department of Health and Human Services is committed to improving the health and physical fitness of young people, particularly those that are members of low-income families and residents of economically disadvantaged areas of the United States.

Part II—Background Information

A. Eligible Applicants

A service provider that is a national private, non-profit organization, a coalition of such organizations, or a private, non-profit organization applying jointly with a business concern and faith-based organizations shall be eligible to apply for a grant under this section if:

1. the applicant has demonstrated experience in operating a program providing instruction to low-income youth;

2. the applicant agrees to contribute an amount (in cash or in-kind, fairly evaluated) of not less than 25 per cent of the amount requested, for the program funded through the grant;

3. the applicant agrees to use no funds from a grant authorized under this section for administrative expenses; and

4. the applicant agrees to comply with the regulations or program guidelines promulgated by the Secretary for use of funds made available through the grant.

B. Program Priority Area

There is one Program Priority Area under this announcement.

C. Project and Budget Period (See Definition of Terms)

The project period will be 60 months (5 years), with budget periods not to exceed 12 months. A significant amount of the program activities must be undertaken in the period covering June, July and August of each fiscal year.

D. Availability of Funds and Grants Amounts

In Fiscal Year 2002, OCS expects approximately $17,000,000 to be available for funding commitments to approximately one new project under this program. For Fiscal Years 2003-2006, OCS anticipates, subject to the availability of funds, that one non-competing continuation grant will be made under this program.

E. Matching Funds Requirements

The grant requires a match of either cash or third party in-kind, fairly evaluated and not less than 25% of the Federal funds requested.

F. Program Participants/Beneficiaries

Projects proposed for funding under this announcement must result in direct benefits targeted toward youth between the ages of 10-16 from low-income families.

Attachment A of the appendices to this announcement is an excerpt from the HHS Poverty Income Guidelines currently in effect. Annual revisions of these Guidelines are normally published in the Federal Register in February or early March of each year and are applicable to projects being implemented during the year subsequent to publication. Grantees will be required to apply the most recent Guidelines throughout the project period. No other government agency or privately defined poverty guidelines are applicable to the determination of low-income eligibility for this OCS funded program.

G. Multiple Submittals and Multiple Grants

An applicant organization should not submit more than one application under this Program Announcement.

H. Maintenance of Effort

The activities funded under this program announcement must be in addition to, and not in substitution for, activities previously carried on without Federal assistance. A Certificate of Maintenance of Effort must be included with the application (See Attachment J).

Part III. The Project Description, Program Proposal Elements and Review Criteria

A. Purpose

The project description provides the major means by which an application is evaluated and ranked to compete with other applications for available assistance. The project description should be concise and complete and should address the activity for which Federal funds are being requested. Supporting documents should be included where they can present information clearly and succinctly. Applicants should provide information on their organizational structure, staff, related experience, and other information considered to be relevant. Awarding offices use this and other information to determine whether the applicant has the capability and resources necessary to carry out the proposed project. It is important, therefore, that this information be included in the application. However, in the narrative the applicant must distinguish between resources directly related to the proposed project and those resources that will not be used in support of the specific project for which funds are requested.

B. Project Summary/Abstract

Provide a summary of the project description (a page or less) with reference to the funding request.

C. Objectives and Need for Assistance

Clearly identify the physical, economic, social, financial, instructional, and/or other problem(s) requiring solution. The need for assistance must be demonstrated and the principal and subordinate objectives of the proposal must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

D. Results or Benefits Expected

Identify the results and benefits to be derived.

E. Approach

Outline a plan of action which describes the scope and detail of how the proposed work will be accomplished. Account for all functions or activities identified in the application. Cite factors which might accelerate or decelerate the work and state your reason for taking the proposed approach rather than others. Describe any unusual features of the project such as design or technological innovations, reductions in cost of time, or extraordinary social and community involvement.

Provide quantitative monthly or quarterly projections of the accomplishments to be achieved for each function or activity in such terms as the number of people to be served. When accomplishments cannot be quantified by activity or function, list them in chronological order to show the schedule or accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

F. Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or, by providing a copy of the currently valid IRS tax exemption certificate, or, by providing a copy of the articles of incorporation bearing the seal of the State in which the corporation or association is domiciled.

G. Budget and Budget Justification

Provide a line item detail and detailed calculations for each budget object class identified on the Budget Information form. Detailed calculations must include estimation methods, quantities, unit costs, and other similar quantitative details sufficient for the calculation to be duplicated. The detailed budget must also include a breakout by the funding sources identified in Block 15 of the SF-424.

Provide a narrative budget justification that describes how categorical costs are derived. Discuss the necessity, reasonableness, and allocability of the proposed costs.

The following guidelines are for preparing the budget and budget justification. Both Federal and non-Federal resources must be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant. Administrative costs may not be charged to the Federal grant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use procedures in 45 CFR part 92, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Indicate the totals for all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

H. Administrative Costs

No federal funds from a grant made under this program may be used for administrative expenses.

I. Indirect Costs

Total amount of indirect costs. This category should be used only when the applicant currently has an indirect cost rate approved by the Department of Health and Human Services (HHS) or another cognizant Federal agency.

Justification: An applicant that will charge indirect costs to the grant must enclose a copy of the current rate agreement. If the application organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

J. Program Income

The estimated amount of income, if any, expected to be generated from this project.

Justification: Describe the nature, source and anticipated use of program income in the budget or refer to the pages in the application which contain this information.

K. Non-Federal Resources

Amounts of non-Federal resources that will be used to support the project as identified in Block 15 of the SF-424.

Justification: The firm commitment of these resources must be documented and submitted with the application in order to be given credit in the review process. A detailed budget must be prepared for each funding source.

L. Evaluation Criteria

Each application which passes the initial screening will be addressed and scored by three independent reviewers. Each reviewer will give a numerical score for each application reviewed. These numerical scores will be supported by explanatory statements on a formal rating form describing major strengths and weaknesses under each applicable criterion published in the Announcement. Scoring will be based on a total of 100 points, and for each application will be the average of the scores of the three reviewers.

The competitive review of proposals will be based on the degree to which applicants adhere to the program requirements and incorporate each of the Elements and Sub-Elements below into their proposals.

Review Criteria—Proposal Elements and Review Criteria for Applications

Purpose

Any instructional activity carried out by an eligible service provider receiving a grant under this program announcement shall be carried out on the campus of an institution of higher education (as defined in section 1201(a) of the Higher Education Act) and shall include—

a. Access to the facilities and resources of such institution;

b. An initial medical examination and follow-up referral or treatment, without charge, for youth during their participation in such activity;

c. At least one nutritious meal daily, without charge, for participating youth during each day of participation;

d. High quality instruction in a variety of sports (that shall include swimming and that may include dance and any other high quality recreational activity) provided by coaches and teachers from institutions of higher education and from elementary and secondary schools (as defined in section 14101 of the Elementary and Secondary Education Act of 1965); and

e. Enrichment instruction and information on matters relating to the well-being of youth, to include educational opportunities and study practices, education for the prevention of drug and alcohol abuse, health and nutrition, career opportunities, and family and job responsibilities.

The eligible service provider shall, in each community in which a program is funded shall ensure that:

a. A community-based advisory committee is established, with representatives from local youth, family, and social service organizations, schools, entities providing park and recreation services, and other community-based organizations serving high-risk youth;

b. An existing community-based advisory board, commission, or committee with similar membership is utilized to serve the committee described above; and

c. Enter into formal partnerships with youth serving organizations or other appropriate social service entities in order to link program participants with year-round services in their home communities that support and continue the objectives of this subtitle.

Review Criteria—Objectives and Need for Assistance (Maximum: 5 points)

The applicant should clearly define the specific needs that the project will address and state its underlying assumptions about how these specific needs can be addressed by the proposed project. As previously noted, any relevant data based on planning studies should be included or referred to in the endnotes/footnotes and demographic data and participant/beneficiary information should be incorporated, as needed. In developing the project description, the applicant may also volunteer or be requested to provide information on the total range of projects currently being conducted and supported (or to be initiated), some of which may be outside the scope of the program announcement.

Review Criteria—Organizational Profile (Maximum: 25 Points)

Organizational Experience in Program Area and Staff Responsibilities

a. Organizational experience in program area (0-10 points). Documentation provided indicates that projects previously undertaken have been relevant and effective and have provided significant benefits to low-income youth. Information provided should also address the achievements and competence of any participating institutions.

b. Management history (0-5 points). Applicants must fully detail their ability to implement sound and effective management practices. If they have been recipients of other Federal or other governmental grants, they must also detail that they have consistently complied with financial and program progress reporting and audit requirements. Applicants should submit any available documentation on their management practices and progress reporting procedures. Applicant should also submit a statement by a Certified or Licensed Public Accountant as to the sufficiency of the applicant's financial management system to protect any Federal funds which may be awarded under this program.

c. Staffing skills, resources and responsibilities (0-10 points). Applicant must briefly describe the experience and skills of the proposed project director showing that the individual is not only well qualified but that his/her professional capabilities are relevant to the successful implementation of the project. If the key staff person has not been identified, the application should contain a comprehensive position description which indicates that the responsibilities assigned to the project director are relevant to the successful implementation of the project.

The application must indicate that the applicant and the subgrantees or delegate institutions have adequate facilities and resources (i.e. space and equipment) to successfully carry out the proposed work plan. The application must clearly show that sufficient time of the Project Director and other senior staff will be budgeted to assure timely implementation and oversight of the project and that the assigned responsibilities of the staff are appropriate to the tasks identified for the project.

Review Criteria—Approach—Project Design and Implementation (Maximum: 40 Points)

Approach I: Location and Number of Institutions of Higher Education (Maximum: 20 points).

a. Applicant must describe and document the number and location of Institutions of Higher Education committed to participation in this program, with special attention to documenting the accessibility of the schools to economically disadvantaged communities. (0-12 points).

b. Applicant must describe in the aggregate the facilities which will be available on the campuses of the institutions to be used in the program (swimming pools, medical facilities, food preparation facilities, etc). (0-8 points).

Approach II: Adequacy of Work Program (Maximum: 20 Points).

a. Applicant must set forth realistic weekly time targets for the summer program. The time targets should specify the tasks to be accomplished in the given time frames. (0-8 points).

b. Applicant must address the legislatively-mandated activities found in Part I(A), to include: (1) Project priorities and rationale for selecting them; (2) project goals and objectives; and (3) project activities. (0-12 points)

Review Criteria—Adequacy of Budget (Maximum: 10 Points)

Budget is adequate and funds requested are commensurate with the level of effort necessary to accomplish the goals and objectives of the program. The estimated cost of the project to the government is reasonable in relation to the anticipated results.

Evaluation Criteria—Results or Benefits Expected (Maximum: 20 Points)

Element I: Significant and Beneficial Impact.

a. Applicant proposes to improve nutritional services to the participating youths (0-5 points).

b. Project incorporates medical examinations along with follow-up referral or treatment without charge (0-5 points).

c. Project includes counseling related to drug and alcohol abuse by couselors with experience in those areas as a major element (0-5 points).

d. Project makes use of an existing outreach activity of a community action agency or some other community-based organization (0-5 points).

Part IV—Application Procedures

A. Availability of Forms

Attachments B through J contain all of the standard forms under this OCS program. These attachments and PARTS V, and VI of this Notice contain all the instructions required for submittal of applications.

B. Application Submission

Mailing Address: NYSP applications should be mailed to the U.S. Department of Health and Human Services, Administration for Children and Families, Office of Grants Management, Office of Child Support Enforcement, Attn: NYSP Program, 370 L'Enfant Promenade, SW., 4th Floor West, Washington, DC 20447.

Number of Copies Required. One signed original application and two copies must be submitted at the time of initial submission. (OMB 0970-0139). Two additional optional copies would be appreciated to facilitate the processing of applications.

Deadline: Mailed applications shall be considered as meeting an announced deadline if they are received on or before the deadline time and date at the U.S. Department of Health and Human Services, Administration for Children and Families, Office of Grants Management, Office of Child Support Enforcement, Attn: NYSP Program, 370 L'Enfant Promenade, SW., 4th Floor West, Washington, DC 20447. Applicants are responsible for mailing applications well in advance, when using all mail services, to ensure that the applications are received on or before the deadline time and date.

Applications hand carried by applicants, applicant couriers, or by other representatives or the applicant shall be considered as meeting an announced deadline if they are received on or before the deadline date, between the hours of 8 a.m. and 4:30 p.m., EST at the U.S. Department of Health and Human Services, Administration for Children and Families, Office of Grants Management, Office of Child Support Enforcement, ACF Mailroom, 2nd Floor (near loading dock), Aerospace Center, 901 “D” Street, SW., Washington, DC 20024, between Monday and Friday (excluding Federal holidays). (Applicants are cautioned that express/overnight mail services do not always deliver as agreed). The address must appear on the envelope/package containing the application with the note “Attention: NYSP Program.”

ACF cannot accommodate transmission of applications by fax or through other electronic media. Therefore, applications transmitted to ACF electronically will not be accepted regardless of Date or Time of submission and time of receipt.

Late applications: Applications which do not meet the criteria above are considered late applications. ACF shall notify each late applicant that its application will not be considered in the current competition.

Extension of deadline: ACF may extend application deadlines when circumstances such as acts of God such as floods, hurricanes, etc. occur, when there are widespread disruptions of mail service, or in other rare cases. A determination to extend or waive deadline requirements rest with ACF's Chief Grants Management Officer.

Intergovernmental Review: This program is covered under Executive Order 12372, Intergovernmental Review of Federal Programs, and 45 CFR Part 100, Program and Activities. Under the order States may design their own processes for reviewing and commenting on proposed Federal assistance under covered programs.

All States and Territories except Alabama, Alaska, Arizona, Colorado, Connecticut, Kansas, Hawaii, Idaho, Indiana, Louisiana, Massachusetts, Minnesota, Montana, Nebraska, New Jersey, New York, Ohio, Oklahoma, Oregon, Palau, Pennsylvania, South Dakota, Tennessee, Vermont, Virginia, Washington and Wyoming have elected to participate in the Executive Order process and have established Single Points of Contacts (SPOCs). Applicants from these twenty-seven jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

When comments are submitted directly to ACF, they should be addressed to: Department of Health and Human Services, Administration for Children and Families, OCSE Office of Grants Management, 4th Floor West, 370 L'Enfant Promenade, SW., Washington, DC 20447.

A list of the Single Points of Contact for each State and Territory is included as Attachment K to this Announcement.

C. Application Consideration

Applications which meet the screening requirements in Section D below will be reviewed competitively. Such applications will be referred to reviewers for a numerical score and explanatory comments based solely on responsiveness to program guidelines and evaluation criteria published in this announcement. The applications will be reviewed by qualified reviewers. The results of these reviews will assist the Director and OCS program staff in considering competing applications. Reviewers' scores will weigh heavily in funding decisions but will not be the only factors considered. Applications will generally be considered in order of the average scores assigned by reviewers. However, highly ranked applications are not guaranteed funding since the Director may also consider other factors deemed relevant including, but not limited to, the timely and proper completion of projects funded with OCS funds granted in the last five (5) years; comments of reviewers and government officials; staff evaluation and input; previous program performance of applicants; compliance with grant terms under previous DHHS grants; audit reports; investigative reports; and applicant's progress in resolving any final audit disallowances on OCS or other Federal agency grants. OCS reserves the right to discuss applications with other Federal or non-Federal funding sources to ascertain the applicant's performance record.

D. Criteria for Reviewing Applications

All applications that meet the published deadline for submission will be screened to determine completeness and conformity to the requirements of this Announcement. Only those applications meeting the following requirements will be reviewed and evaluated competitively. Others will be returned to the applicants with a notation that they were unacceptable.

Initial Screening

(1) The application must contain a completed Standard Form 424 “Application for Federal Assistance” (SF-424), signed by an official of the organization applying for the grant who has authority to obligate the organization legally;

(2) One budget form (SF-424A) covering the entire NYSP project; and

(3) Signed “Assurances” (SF-424B) by the appropriate official.

Pre-Rating Review

Applications which pass the initial screening will be forwarded to reviewers for analytical comment and scoring based on the criteria detailed in the Section III.L above and the specific requirements contained in Part IV of this Announcement. Prior to the programmatic review, these reviewers and/or OCS staff will verify that the applications comply with this Program Announcement in the following areas:

(1) Eligibility: Applicant meets the eligibility requirements found in Part II.

(2) Target Populations: The application clearly targets the specific outcomes and benefits of the project to low-income participants as defined in the DHHS Poverty Income Guidelines (Attachment A).

(3) Grant Amount: The amount of funds requested does not exceed the estimated amount of $17 million.

Applications which pass the initial screening and pre-rating review will be assessed and scored by reviewers. Each reviewer will give a numerical score for each application reviewed. These numerical scores will be supported by explanatory statements on a formal rating from describing major strengths and major weaknesses under each applicable criterion published in this Announcement.

Part V. Instructions for Completing Application Forms

The standard forms attached to this announcement shall be used to apply for funds under this program announcement. It is suggested that you reproduce single-sided copies of the SF-424 and SF-424A and type your application on the copies. Please prepare your application in accordance with instructions provided on the forms(Attachment B and C) as modified by the OCS specific instructions set forth below:

Provide line item and detailed calculations for each budget object class identified on the Budget Information form. Detailed calculations must include estimation methods, quantities, unit costs, and other similar quantitative detail sufficient for the calculation to be duplicated. The detailed budget must also include a breakout by the funding sources identified in Block 15 of SF-424.

Provide a narrative budget justification which describes how the categorical costs are derived. Discuss the necessity, reasonableness and allocability of the proposed costs.

A. SF-424—Application for Federal Assistance

(One SF-424 to be completed by applicant).

Top of Page

Where the applicant is a previous Department of Health and Human Services grantee, enter the Central Registry System Employee Identification Number (CRS/EIN) and the Payment Identifying Number, if one has been assigned, in the Block entitled Federal Identifier located at the top right hand corner of the form (third line from the top).

Item 1. For the purposes of this announcement, all projects are considered Applications; there are no Pre-applications.

Item 7. Enter “N” in the box for non-profit organization.

Item 9. Name of Federal Agency—Enter DHHS-ACF/OCS.

Item 10. The Catalog of Federal Domestic Assistance number for OCS programs covered under this announcement is 93.570.

Item 11. Enter a brief descriptive title of the project.

Item 13. Proposed Project—The project start must begin on or before June 1, 2002; the ending date should be calculated on the basis of a 60 month Project Period.

Item 15a. The amount should be no greater than $17 million.

Item 15e. These items should reflect both cash and third party, in-kind contributions for the Project Period.

B. SF-424A—Budget Information—Non-Construction Programs

(One SF-424A completed for applicant, covering the entire NYSP Project).

In completing these sections, the Federal Funds budget entries will relate to the requested OCS funds only, and Non-Federal will included mobilized funds from all other sources—applicant, state, local, other. Federal funds other requested OCS funding should be included in Non-Federal entries.

Section A—Budget Summary

You need only fill in lines 1 and 5 (with the same amounts)

Col. (a): Enter “NYSP Program''

Col. (b): Catalog of Federal Domestic Assistance 93.570. Col. (c) and (d) not relevant to this program

Column (e)-(g): enter the appropriate grant request amount

Section B—Budget Categories

For applicants, a single SF-424A covering the entire NYSP project: complete a one-year budget in accordance with the instructions provided.

Note: With regard to Class Categories, only out-of-town travel should be entered under Category c. Travel. Local travel costs should be entered under Category h. Other. Costs of supplies should be included under Category e. “Supplies” is tangible personal property other than “equipment.” “Equipment” means an article of nonexpendable, tangible personal property having a useful life of more than one year and acquisition cost which equals or exceeds the lesser of (a) the capitalization level establishing by the organization for financial statement purposes, or (b) $5,000. Articles costing less should be included in “Supplies.”

Section C—Non-Federal Resources should be completed in accordance with the instructions provided, remembering that “all non-OCS funds” fall into this category.

Section D, E and F may be left blank.

As previously noted in this Part, a supporting Budget Justification must be submitted providing details of expenditures under each budget category, with justification of dollar amounts which relate to the proposed expenditures to the work program and goals of the project.

C. SF-424B Assurances: Non-Construction Programs

(One SF-424B to be submitted by applicant).

Applicants requesting financial assistance for a non-construction project must file Standard Form 424B, “Non-Construction Programs.” (Attachment D). Applicants must sign and return the Standard Form 424B with their applications.

Applicants must provide a certification concerning Lobbying prior to receiving an award in excess of $100,000. Applicants shall furnish an executed copy of the lobbying certification (See Attachments G and H). Applicants must sign and return the certifications with their applications. Applicants should note that the Lobbying Disclosure Act of 1995 has simplified the lobbying information required to be disclosed under 31 U.S.C. 1352.

Applicants must make the appropriate certification on their compliance with the Drug-Free Workplace Act of 1998 and the Pro-Children Act of 1994 (Certification Regarding Smoke Free Environment). (See Attachments E and I). By signing and submitting the applications, applicants are attesting to their intent to comply with these requirements and need not mail back the certification with the applications.

Applicants must make the appropriate certification that they are not presently debarred, suspended or otherwise ineligible for award. (See Attachment F). By signing and submitting the applications, applicants are providing the certification and need not mail back the certification with the applications. Copies of the certifications and assurances are located at the end of this announcement.

Part VI. Contents of Application and Receipt Process

Application pages should be numbered sequentially throughout the application package, beginning with a Summary/Abstract of the proposed project as page number one; and each application must include all of the following, in the order listed below:

A. Content and Order of Application

1. Table of Contents

2. Project Summary—provide a summary of the project description, (a page or less), that would be suitable for use in an announcement application has been selected for a grant award; which the type of project, identifies the target population and number of participants to be served, number of institutions of higher education committed to the project and the major elements of the work program.

3. A completed Standard Form 424 which has been signed by an official of the organization applying for the grant who has authority to obligate the organization legally; [Note: The original SF-424 must bear the original signature of the authorizing representative of the applicant];

4. A single Budget Information-Non-Construction Programs (SF-424A) for the applicant, covering the entire NYSP Project.

5. Narrative Budget Justification for each object class category included under Section B.

6. Project Narrative is limited to the number of pages specified below.

7. Appendices, which should include the following:

a. Filled out, signed and dated Assurances—Non-Construction (SF 424-B), Attachment C;

b. Instructions for Completion of SP-LLL, Disclosure of Lobbying Activities: fill out, sign and date form found at Attachment G;

c. Disclosure of Lobbying Activities SF-LLL: fill out, sign and date form found at Attachment H, if appropriate (omit Items 11-15 on the SF-LLL and ignore references to Attachment G, page, SF-LLL-A);

d. Maintenance of Effort Certification (See Attachment J);

e. Resumes and/or position descriptions (should be included in the appendices);

f. Single Points of Contact comments, if available.

g. and other information such: organization by-laws, articles of incorporation, proof of non-profit status, statement by a Certified or Licensed Public Accountant as to the sufficiency of the applicant's financial management system to protect Federal funds.

Note: The total number of pages for the entire application package should not exceed 50 pages, including appendices. Applications should be two holed punched at the top and fastened separately with a compressor slide paper fastener or a binder clip. The submission of bound applications, or applications enclosed in binder, is especially discouraged. Pages should be numbered sequentially throughout the application package, excluding Appendices, beginning with the Summary/Abstract as Page #1.

Applications must be uniform in composition since OCS may find it necessary to duplicate them for review purposes. Therefore, applications must be submitted on white 8½ × 11 inch paper only. They should not include colored, oversized or folded materials. Do not include organizational brochures or other promotional materials, slides, films, clips, etc. in the proposal. They may be discarded, if included.

B. Acknowledgment of Receipt

Acknowledgment of Receipt—All applicants will receive an acknowledgment with an assigned identification number. Applicants are requested to supply a self-addressed mailing label with their application which can be attached to this acknowledgment. All applicants are requested to provide a FAX number and/or e-mail address as part of their application. The assigned identification number, along with any other identifying codes, must be referenced in all subsequent communications concerning the application. If an acknowledgment and/or notice is not received within three weeks after the deadline date, please notify ACF by telephone at (202) 401-5307 or 5295.

Part VII. Post Award Information and Reporting Requirements

A. Notification of Grant Award

Following approval of the application selected for funding, notice of project approval and authority to draw down project funds will be made in writing. The official award document is the Financial Assistance Award which provides the amount of Federal funds for use in the project period, the budget period for which support is provided, and the terms and conditions of the award, the total project period for which support is contemplated, and the total required grantee financial participation, if any.

For Fiscal Years 2003-2006 the grantee will be notified of the requirements for submission of the continuation application by February of the pertinent fiscal year.

B. Reporting Requirements

Grantee will be required to submit semi-annual progress and financial reports (SF-269) throughout the project period, as well as a final program and financial report 90 after the end of the project period.

C. Audit Requirements

Grantee is subject to the audit requirements in 45 CFR Part 74 and OMB Circular A-133.

In addition to the General Conditions and Special Conditions (where the latter are warranted) which will be applicable to grant, the grantee will be subject to the provisions of 45 CFR Part 74 along with OMB Circulars A-122, A-133, and, for institutions of higher education, A-21.

D. Prohibitions and Requirements with regard to Lobbying

Section 1352 of Public Law 101-121, signed into law on October 23, 1989, imposes prohibitions and requirements for disclosure and certification related to lobbying on recipients of Federal contracts, grants, cooperative agreements, and loans. It provides exemptions for Indian Tribes and tribal organizations. Current and prospective recipients (and their subtier contractors and/or grantees) are prohibited from using Federal funds, other than profits from a Federal contract, for lobbying Congress or any Federal agency in connection with the award of a contract, grant, cooperative agreement or loan. In addition, for each award action in excess of $100,000 (or $150,000 for loans) the law requires recipients and their subtier contractors and/or subgrantees (1) to certify that they have neither used nor will use any appropriated funds for payment to lobbyists; (2) to disclose the name, address, payment details, and purpose of any agreements with lobbyists whom recipients or their subtier contractor, or subgrantees will pay with profits or nonappropriated funds on or after December 22, 1989; and (3) to file quarterly up-dates about the use of lobbyists if material changes occur in their use. The law establishes civil penalties for noncompliance. See Attachments G and H for certification and disclosure forms to be submitted with the applications for this program.

Dated: January 17, 2002.
Clarence H. Carter,
Director, Office of Community Services.

List of Attachments

A. Income Poverty Guidelines

B. Application for Federal Assistance (SF-424)

C. Budget Information—Non-Construction Programs (SF-424A)

D. Assurances—Non-Construction Programs (SF-424B)

E. Certification Regarding Drug-Free Workplace Requirements

F. Certification Regarding Debarment, Suspension, and other Responsibility Matters

G. Instructions for Completion of SF-LLL, Disclosure of Lobbying Activities

H. Disclosure of Lobbying Activities

I. Certification Regarding Environmental Tobacco Smoke

J. Certification Regarding Maintenance of Effort

K. Single Points of Contact Listing

BILLING CODE 4184-01-P

BILLING CODE 4184-01-C

Attachment B—Instructions for the SF-424

This is a standard form used by applicants as a required facesheet for preapplications and applications submitted for Federal assistance. It will be used by Federal agencies to obtain applicant certification that States which have established a review and comment procedure in response to Executive Order 12372 and have selected the program to be included in their process, have been given an opportunity to review the applicant's submission.

Item and Entry:

1. Self-explanatory.

2. Date application submitted to Federal agency (or State if applicable) & applicant's control number (if applicable).

3. State use only (if applicable).

4. If this application is to continue or revise an existing award, enter present Federal identifier number. If for a new project, leave blank.

5. Legal name of applicant, name of primary organizational unit which will undertake the assistance activity, complete address of the applicant, and name and telephone number of the person to contact on matters related to this application.

6. Enter Employer Identification Number (EIN) as assigned by Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Governments financial obligation or contingent liability from an existing obligation.

9. Name of Federal agency from which assistance is being requested with this application.

10. Use the Catalog of Federal Domestic Assistance number and title of the program under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List the applicant's Congressional District and District(s) affected by the program or project.

15. Amount requested or to be contributed during the first funding/budget period by each contributor. Value of in-kind contributions should be included on appropriate lines as applicable. If the action will result in a dollar change to an existing award, indicate only the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt include delinquent audit disallowances, loans and taxes.

18. To be signed by the authorized representative of the applicant. A copy of the governing body's authorization for you to sign this application as official representative must be on file in the applicant's office. (Certain Federal agencies may require that this authorization be submitted as part of the application.)

BILLING CODE 4184-01-P

BILLING CODE 4184-01-C

Attachment C—Instructions for the SF-424A

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

PLEASE DO NOT RETURN YOUR COMPLETED FORM TO THE OFFICE OF MANAGEMENT AND BUDGET. SEND IT TO THE ADDRESS PROVIDED BY THE SPONSORING AGENCY.

General Instructions

This form is designed so that application can be made for funds from one or more grant programs. In preparing the budget, adhere to any existing Federal grantor agency guidelines which prescribe how and whether budgeted amounts should be separately shown for different functions or activities within the program. For some programs, grantor agencies may require budgets to be separately shown by function or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Lines a-k of Section B.

Section A. Budget Summary Lines 1-4, Columns (a) and (b)

For applications pertaining to a single Federal grant program (Federal Domestic Assistance Catalog number) and not requiring a functional or activity breakdown, enter on Line 1 under Column (a) the catalog program title and the catalog number in Column (b).

For applications pertaining to a single program requiring budget amounts by multiple functions or activities, enter the name of each activity or function on each line in Column (a), and enter the catalog number in Column (b). For applications pertaining to multiple programs where none of the programs require a breakdown by function or activity, enter the catalog program title on each line in Column (a) and the respective catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g.)

For new applications, leave Columns (c) and (d) blank. For each line entry in Columns (a) and (b), enter in Columns (e), (f), and (g) the appropriate amounts of funds needed to support the project for the first funding period (usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in column (e) the amount of the increase or decrease of Federal Funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the totals for all columns used.

Section B. Budget Categories

In the column heading (1) through (4), enter the titles of the same programs, functions, and activities shown on Line 1-4, Column (a), Section A. When additional sheets are prepared for Section A, provide similar column headings on each sheet. For each program, function or activity, fill in the total requirements for funds (both Federal and non-Federal) by object class categories.

Lines 6a-i—Show the totals of Lines 6a to 6h in each column.

Line 6j—Show the amount of indirect cost.

Line 6k—Enter the total of amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, in any, expected to be generated from this project. Do not add or subtract this amount from the total project amount.

Shown under the program narrative statement the nature and source of income. The estimated amount of program income may be considered by the Federal grantor agency in determining the total amount of the grant.

Section C. Non-Federal Resources

Line 8-11—Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter totals of Columns (b), (c), and (d).

Line 12—Enter the total for each of Columns (b)-(e). The amount in Column (e) should be equal to the amount on line 5, Column (f), Section A.

Section D. Forecasted Cash Needs

Line 13—Enter the amount of cash needed by quarter from the grantor agency during the first year.

Line 14—Enter the amount of cash from all other sources needed by quarter during the first year.

Line 15—Enter the totals of amounts on Line 13 and 14.

Section E. Budget Estimates of Federal Funds Needed for Balance of the Project

Line 16-19—Enter in Column (a) the same grant program titles shown in column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Line 20—Enter the total for each of the Columns (b)-(e). When additional schedules are prepared for this Section, annotate accordingly and show the overall totals on this line.

Section F. Other Budget Information

Line 21—Use this space to explain amounts for individual direct object-class cost categories that may appear to be out of the ordinary or to explain the details as required by the Federal grantor agency.

Line 22—Enter the type of indirect rate (provisional, predetermined, final or fixed) that will be in effect during the funding period, the estimated amount of the base to which the rate is applied, and the total indirect expense.

Line 23—Provide any other explanations or comments deemed necessary.

Attacment D—Assurances—Non-Construction Programs

Note: Certain of these assurances may not be applicable to your project or program. If you have questions, please contact the awarding agency. Further, certain Federal awarding agencies may require applicants to certify to additional assurances. If such is the case, you will be notified.

As the duly authorized representative of the applicant I certify that the applicant:

1. Has the legal authority to apply for Federal assistance, and the institutional, managerial and financial capability (including funds sufficient to apply the non-Federal share of project costs) to ensure proper planning, management and completion of the project described in this application.

2. Will give the awarding agency, the Comptroller General of the United States, and if appropriate, the State, through any authorized representative, access to and the right to examine all records, books, papers, or documents related to the award; and will establish a proper accounting system in accordance with generally accepted accounting standard or agency directives.

3. Will establish safeguards to prohibit employees from using their positions for a purpose that constitutes or presents the appearance of personal or organizational conflict of interest, or personal gain.

4. Will initiate and complete the work within the applicable time frame after receipt of approval of the awarding agency.

5. Will comply with the Intergovernmental Personnel Act of 1970 (42 U.S.C. §§ 4728-4763) relating to prescribed standards for merit systems for programs funded under one of the nineteen statutes or regulations specified in Appendix A of OPM's Standard for a Merit System of Personnel Administration (5 C.F.R. 900, Subpart F).

6. Will comply with all Federal statues relating to nondiscrimination. These include but are not limited to: (a) Title VI of the Civil Rights Act of 1964 (P.L. 88-352) which prohibits discrimination on the basis of race, color or national origin; (b) Title IX of the Education Amendments of 1972, as amended (20 U.S.C. §§ 1681-1683, and 1685-1686), which prohibits discrimination on the basis of sex; (c) Section 504 of the Rehabilitation Act of 1973, as amended (29 U.S.C. §§ 794), which prohibits discrimination on the basis of handicaps; (d) the Age Discrimination Act of 1975, as amended (42 U.S.C. §§ 6101-6107), which prohibits discrimination on the basis of age; (e) the Drug Abuse Office and Treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health Service Act of 1912 (42 U.S.C. §§ 290 dd-3 and 290 ee-3), as amended, relating to confidentiality of alcohol and drug abuse patient records; (h) Title VIII of the Civil Rights Act of 1968 (42 U.S.C. §§ 3601 et seq.), as amended, relating to non-discrimination in the sale, rental or financing of housing; (i) any other nondiscrimination provisions in the specific statue(s) under which application for Federal assistance is being made; and (j) the requirements of any other nondiscrimination statue(s) which may apply to the application.

7. Will comply, or has already complied, with the requirements of the Title II and III of the Uniform Relocation Assistance and Real Property Acquisition Policies Act of 1970 (P.L. 91-646) which provide for fair and equitable treatment of person displaced or whose property is acquired as a result of Federal or federally assisted programs. These requirements apply to all interests in real property acquired for project purposes regardless of Federal participation in purchases.

8. Will comply with the provisions of the Hatch Act (5 U.S.C. §§ 1501-1508 and 7324-7328) which limit the political activities of employees whose principal employment activities are funded in whole or in part with Federal funds.

9. Will comply, as applicable with the provisions of the Davis-Bacon Act (40 U.S.C. §§ 276a to 276a-7), the Copeland Act (40 U.S.C. § 276c and 18 U.S.C. § 874), and the Contract Work Hours and Safety Standards Act (40 U.S.C. §§ 327-333), regarding labor standards for federally assisted construction subagreements.

10. Will comply, if applicable, with flood insurance purchase requirements of section 102(a) of the Flood Disaster protection Act of 1973 (P.L. 93-234) which requires recipients in a special flood hazard area to participate in the program and to purchase flood insurance if the total cost of insurable construction and acquisition is $10,000 or more.

11. Will comply with environmental standards which may be prescribed pursuant to the following: (a) institution of environmental quality control measures under the National Environmental Policy Act of 1969 (P.L. 91-190) and Executive Order (EO) 11514; (b) notification of violating facilities pursuant to EO 11738; (c) protection of wetland pursuant to EO 11990; (d) evaluation of flood hazards in floodplains in accordance with EO 11988; (e) assurance of project consistency with the approved State management program developed under the Coastal Zone Management Act of 1972 (16 U.S.C. §§ 1451 et seq.); (f) conformity of Federal actions to State (Clear Air) Implementation Plans under Section 176(c) of the Clean Air Act of 1955, as amended (42 U.S.C. §§ 7401 et seq.); (g) protection of underground sources of drinking water under the Safe Drinking Water Act of 1974, as amended, (P.L. 93-523); and (h) protection of endangered species under the Endangered Species Act of 1973, as amended, (P.L. 93-205).

12. Will comply with the Wild and Scenic River Act of 1968 (16 U.S.C. §§ 1271 et seq.) related to protecting components or potential components of the national wild and scenic rivers system.

13. Will assist the awarding agency in assuring compliance with Section 106 of the National Historic Preservation Act of 1966, as amended (16 U.S.C. § 470), EO 11593 (identification and protection of historic properties), and the Archaeological and Historic Preservation Act of 1974 (16 U.S.C. §§ 469a-1 et seq.).

14. Will comply with P.L. 93-348 regarding the protection of human subjects involved in research development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead based paint in construction or rehabilitation of residence structures.

17. Will cause to be performed the required financial and compliance audits in accordance with the Single Audit Act of 1984.

18. Will comply with all applicable requirements of all other Federal laws, executive orders, regulations and policies governing this program.

SIGNATURE OF AUTHORIZED CERTIFYING OFFICIAL

TITLE

APPLICANT ORGANIZATION

DATE SUBMITTED

Attachment E—Certification Regarding Drug-Free Workplace Requirements

This certification is required by the regulations implementing the Drug-Free Workplace Act of 1988: 45 CFR Part 76, Subpart, F. Sections 76.630(c) and (d)(2) and 76.645(a)(1) and (b) provide that a Federal agency may designate a central receipt point for STATE-WIDE AND STATE AGENCY-WIDE certifications, and for notification of criminal drug convictions. For the Department of Health and Human Services, the central point is: Division of Grants Management and Oversight, Office of Management and Acquisition, Department of Health and Human Services, Room 517-D, 200 Independence Avenue, SW., Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of recipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(23) Any available drug counseling, rehabilitation, and employee assistance programs;

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—(1) Abide the terms of the statement; and

(2) Notify the employer in writing of his or her conviction for a violation of a criminal drug statute occurring in the workplace no later than five calendar days after such conviction;

(e) Notifying the agency in writing, within ten calendar days after receiving notice under paragraph (d)(2) from an employee or other receiving actual notice of such conviction. Employers of convicted employees must provide notice, including position title, to every grant officer or other designee on whose grant activity the convicted employee was working, unless the Federal agency has designated a central point for the receipt of such notices. Notice shall include the identification number(s) of each affected grant.

(f) Taking on of the following actions, within 30 calendar days of receiving notice under paragraph (d)(2), with respect to any employee who is so convicted—

(1) Taking appropriate personnel action against such employee, up to and including termination, consistent with the requirements of the Rehabilitation Act of 1973, as amended; or

(2) Requiring such employee to participate satisfactorily in a drug abuse assistance or rehabilitation program approved for such purposes by a Federal, State, or local health law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code).

Check if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of conviction, to every grant officer or other designee, unless the Federal agency designates a central point for the receipt of such notices. When notice is made to such a central point, it shall include the identification number(s) of each affected grant.

Attachment F—Certification Regarding Debarment, Suspension and Other Responsibility Matters

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transactions, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal has one or more public transactions (Federal, State, or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Covered sections of rules implementing Executive Order 12549. You may contact the person to which this proposal is submitted for assistance in obtaining a copy of those regulations.

5. The prospective lower tier participant agrees by submitting this proposal that, [[Page 33043]] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transactions,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause.

The knowledge and information of a participant is not required to exceed that which is normally possessed by a prudent person in the ordinary course of business dealings.

9. Except for transactions authorized under paragraph 5 of these instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

Certification Regarding Debarment, Suspension, Ineligibility and Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Attachment G-Instructions for Completion of SF-LLL, Disclosure of Lobbying Activities

This decision form shall be completed by the reporting entity, whether subawardee or prime Federal recipient, at the initiation or receipt of a covered Federal action, or a material change to a previous filing, pursuant to title 31 U.S.C. Section 1352. The filing of a form is required for each payment or agreement to make payment to any lobbying entity for influencing or attempting to influence an officer or employee of an agency, a Member of Congress, an officer or employee of Congress, or an employee of a Member of Congress in connection with a covered Federal action. Use the SF-LLL-A Continuation Sheet for additional information if the space on the form is inadequate. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a follow-up report caused by a material change to the information previously reported, enter the year and quarter in which the change occurred. Enter the date of the last previously submitted report by this reporting entity for this covered Federal action.

4. Enter the full name, address, city, state and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “subawardee”, then enter the full name, address, city, state and zip code of the prime Federal recipient. Include Congressional District, if known.

6. Enter the name of the Federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 [e.g., Request for Proposal (RFP) number; Invitation for Bid (IFB) number; grant announcement number; the contract, grant, or loan award number; the application/proposal control number assigned by the Federal agency]. Include prefixes, e.g., “RFP-DE-90-001”.

9. For a covered Federal action where there has been an award or loan commitment by the Federal agency, enter the Federal amount of the award/loan commitment for the prime entity identified in item 4 or 5.

10. (a) Enter the full name, address, city, state and zip code of the lobbying entity engaged by the reporting entity identified in item 4 to influence the covered Federal action.

(b) Enter the full names of the individual(s) performing services, and include full address if different from 10(a). Enter Last Name, First Name, and Middle Initial (MI).

11. Enter the amount of compensation paid or reasonably expected to be paid by the reporting entity (item 4) to the lobbying entity (item 10). Indicate whether the payment has been made (actual) or will be made (planned). Check all boxes that apply. If this is a material change report, enter the cumulative amount of payment made or planned to be made.

According to the Paperwork Reduction Act, as amended, no persons are required to respond to a collection of information unless it displays a valid OMB Control Number. The valid OMB control number for this information collection is OMB No. 0343-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management Budget, Paperwork Reduction Project (0348-0046), Washington, DC 20503.

Disclosure of Lobbying Activities Continuation Sheet

Reporting Entity: ___

___

Page ___ of ___

BILLING CODE 4184-01-C

BILLING CODE 4184-01-C

Attachment I—Certification Regarding Environmental Tobacco Smoke

Public Law 103-227, Part C Environmental Tobacco Smoke, also known as the Pro Children Act of 1994, requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Attachment J—Certification Regarding Maintenance of Effort

In accordance with the applicable program statute(s) and regulation(s), the undersigned certifies that financial assistance provided by the Administration for Children and Families, for the specified activities to be performed under the _____ Program by _____ (Applicant Organization), will be in addition to, and not in substitution for, comparable activities previously carried on without Federal assistance.

Signature of Authorized Certifying Official

Title

Date

Attachment K—Intergovernment Review (SPOC List)

It is estimated that in 2001 the Federal Government will outlay $305.6 billion in grants to State and local governments. Executive Order 12372, “Intergovernmental Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below.

States that are not listed on this page have chosen not to participate in the intergovernmental review process, and therefore do not have a SPOC. If you are located within one of these States, you may still send application materials directly to a Federal awarding agency.

Contact information for Federal agencies that award grants can be found in Appendix IV of the Catalog of Federal Domestic Assistance.

ARKANSAS

Tracy L. Copeland

Manager, State Clearinghouse

Office of Intergovernmental Services

Department of Finance and

Administration

1515 W. 7th St., Room 412

Little Rock, Arkansas 72203

Telephone: (501) 682-1074

Fax: (501) 682-5206

tlcopeland@dfa.state.ar.us

CALIFORNIA

Grants Coordination

State Clearinghouse

Office of Planning and Research

P.O. Box 3044, Room 222

Sacramento, California 95812-3044

Telephone: (916) 445-0613

Fax: (916) 323-3018

state.clearinghouse@opr.ca.gov

DELAWARE

Charles H. Hopkins

Executive Department

Office of the Budget

540 S. Dupont Highway, 3rd Floor

Dover, Delaware 19901

Telephone: (302) 739-3323

Fax: (302) 739-5661

chopkins@state.de.us

DISTRICT OF COLUMBIA

Luisa Montero-Diaz

Office of Partnerships and Grants

Development

Executive Office of the Mayor

District of Columbia Government

441 4th Street, NW, Suite 530 South

Washington, DC 20001

Telephone: (202) 727-8900

Fax: (202) 727-1652

opgd.eom@dc.gov

FLORIDA

Jasmin Raffington

Florida State Clearinghouse

Department of Community Affairs

2555 Shumard Oak Blvd.

Tallahassee, Florida 32399-2100

Telephone: (850) 922-5438

Fax: (850) 414-0479

clearinghouse@dca.state.fl.us

GEORGIA

Georgia State Clearinghouse

270 Washington Street, SW

Atlanta, Georgia 30334

Telephone: (404) 656-3855

Fax: (404) 656-7901

gach@mail.opb.state.ga.us

ILLINOIS

Virginia Bova

Department of Commerce and Community Affairs

James R. Thompson Center

100 West Randolph, Suite 3-400

Chicago, Illinois 60601

Telephone: (312) 814-6028

Fax (312) 814-8485

vbova@commerce.state.il.us

IOWA

Steven R. McCann

Division of Community and Rural

Development

Iowa Department of Economic Development

200 East Grand Avenue

Des Moines, Iowa 50309

Telephone: (515) 242-4719

Fax: (515) 242-4809

steve.mccann@ided.state.ia.us

KENTUCKY

Ron Cook

Department for Local Government

1024 Capital Center Drive, Suite 340

Frankfort, Kentucky 40601

Telephone: (502) 573-2382

Fax: (502) 573-2512

ron.cook@mail.state.ky.us

MAINE

Joyce Benson

State Planning Office

184 State Street

38 State House Station

Augusta, Maine 04333

Telephone: (207) 287-3261

(207) 287-1461 (direct)

Fax: (207) 287-6489

Joyce.benson@state.me.us

MARYLAND

Linda Janey

Manager, Clearinghouse and Plan Review Unit

Maryland Office of Planning

301 West Preston Street—Room 1104

Baltimore, Maryland 21201-2305

Telephone: (410) 767-4490

Fax: (410) 767-4480

linda@mail.op.state.md.us

MICHIGAN

Richard Pfaff

Southeast Michigan Council of Governments

535 Griswold, Suite 300

Detroit, Michigan 48226

Telephone: (313) 961-4266

Fax: (313) 961-4869

pfaff@semcog.org

MISSISSIPPI

Cathy Mallette

Clearinghouse Officer

Department of Finance and Administration

1301 Woolfolk Building, Suite E

501 North West Street

Jackson, Mississippi 39201

Telephone: (601) 359-6762

Fax: (601) 359-6758

MISSOURI

Angela Boessen

Federal Assistance Clearinghouse

Office of Administration

P.O. Box 809

Truman Building, Room 840

Jefferson city, Missouri 65102

telephone: (573) 751-4834

Fax: (573) 522-4395

igr@mail.oa.state.mo.us

NEVADA

Heather Elliott

Department of Administration

State Clearinghouse

209 E. Musser Street, Room 200

Carson City, Nevada 89701

Telephone: (775) 684-0209

Fax: (775) 684-0260

helliott@govmail.state.nv.us

NEW HAMPSHIRE

Jeffrey H. Taylor

Director

New Hampshire Office of State Planning

Attn: Intergovernmental Review Process

Mike Blake

2-1/2 Beacon Street

Concord, New Hampshire 03301

Telephone: (603) 271-2155

Fax: (603) 271-1728

jtaylor@osp.state.nh.us

NEW MEXICO

Ken Hughes

Local Government Division

Room 201 Bataan Memorial Building

Santa Fe, New Mexico 87503

Telephone: (505) 827-4370

Fax: (505) 827-4948

khughes@dfa.state.nm.us

NORTH CAROLINA

Jeanette Furney

Department of Administration

1302 Mail Service Center

Raleigh, North Carolina 27699-1302

Telephone: (919) 807-2323

Fax: (919) 733-9571

jeanette.furney@ncmail.net

NORTH DAKOTA

Jim Boyd

Division of Community Services

600 East Boulevard Ave., Dept 105

Bismarck, North Dakota 58505-0170

Telephone: (701) 328-2094

Fax: (701) 328-2308

jboyd@state.nd.us

RHODE ISLAND

Kevin Nelson

Department of Administration

Statewide Planning Program

One Capitol Hill

Providence, Rhode Island 02908-5870

Telephone: (401) 222-2093

Fax: (401) 222-2083

knelson@doa.state.ri.us

SOUTH CAROLINA

Omeagia Burgess

Budget and Control Board

Office of State Budget

1122 Ladies Street, 12th Floor

Columbia, South Carolina 29201

Telephone: (803) 734-0494

Fax: (803) 734-0645

aburgess@budget.state.sc.us

TEXAS

Denise S. Francis

Director, State Grants Team

Governor's Office of Budget and Planning

P.O. Box 12428

Austin, Texas 78711

Telephone: (512) 305-9415

Fax: (512) 936-2681

dfrancis@governor.state.tx.us

UTAH

Carolyn Wright

Utah State Clearinghouse

Governor's Office of Planning and Budget

State Capitol, Room 114

Salt Lake City, Utah 84114

Telephone: (801) 538-1535

Fax: (801) 538-1547

cwright@gov.state.ut.us

WEST VIRGINIA

Fred Cutlip, Director

Community Development Division

West Virginia Development Office

Building #6, Room 553

Charleston, West Virginia 25305

Telephone: (304) 558-4010

Fax: (304) 558-3248

fcutlip@wvdo.org

AMERICAN SAMOA

Pat M. Galea'i

Federal Grants/Programs Coordinator

Office of Federal Programs

Office of the Governor/Department of Commerce

American Samoa Government

Pago Pago, American Samoa 96799

Telephone: (684) 633-5155

Fax: (684) 633-4195

pmgaleai@samoatelco.com

GUAM

Director

Bureau of Budget and Management

Research

Office of the Governor

P.O. Box 2950

Agana, Guam 96910

Telephone: 011-671-472-2285

Fax: 011-472-2825

jer@ns.gov.gu

NORTH MARIANA ISLANDS

Ms. Jacoba T. Seman

Federal Programs Coordinator

Office of Management and Budget

Office of the Governor

Saipan, MP 96950

Telephone: (670) 664-2289

Fax: (670) 664-2272

omb.jseman@saipan.com

PUERTO RICO

Jose Caballero/Mayra Silva

Puerto Rico Planning Board

Federal/Proposals Review Office

Minillas Government Center

P.O. Box 41119

San Juan, Puerto Rico 00940-1119

Telephone: (787) 723-6190

Fax: (787) 722-6783

VIRGIN ISLANDS

Ira Mills

Director, Office of Management and Budget

#41 Norre Gade Emancipation Garden Station, Second Floor

Saint Thomas, Virgin Islands 00802

Telephone: (340) 774-0750

Fax: (340) 776-0069

Irmills@usvi.org

WISCONSIN

Jeff Smith

Section Chief, Federal/State Relations

Wisconsin Department of Administration

101 East Wilson Street—6th Floor

P.O. Box 7868

Madison, Wisconsin 53707

Telephone: (608) 266-0267

Fax: (608) 267-6931

jeffrey.smith@doa.state.wi.us

Changes to this list can be made only after OMB is notified by a State's officially designated representative. E-mail messages can be sent to grants@omb.eop.gov. If you prefer, you may send correspondence to the following postal address:

Attn: Grants Management

Office of Management and Budget

New Executive Office Building, Suite 6025

725 17th Street, NW

Washington, DC 20503

Please note: Inquiries about obtaining a Federal grant should not be sent to the OMB e-mail or postal address shown above. The best source for this information is the CFDA.

[FR Doc. 02-2130 Filed 1-29-02; 8:45 am]

BILLING CODE 4184-01-P